COMMISSION ON CIVIL RIGHTS

Membership of the USCCR Performance Review Board

AGENCY: Commission on Civil Rights.

ACTION: Notice of membership of the USCCR Performance Review Board.

SUMMARY: This notice announces the appointment of the Performance Review Board (PRB) of the United States Commission on Civil Rights. Publication of PRB membership is required by 5 U.S.C. 4314(c)(4).

The PRB provides fair and impartial review of the U.S. Commission on Civil Rights' Senior Executive Service performance appraisals and makes recommendations regarding performance ratings and performance awards to the Staff Director, U.S. Commission on Civil Rights for the FY 2001 rating year.

FOR FURTHER INFORMATION CONTACT: George Harbison, Acting Director of Human Resources, U.S. Commission on Civil Rights, 624 9th Street, N.W., Washington, D.C. 20425, (202) 376-8364.

Members

Gloria Gutierrez

Assistant Director Marketing and Customer Liaison U.S. Bureau of the Census

Robert Kugelman

Director, Office of Budget Department of Commerce

Joseph Mancias

Senior Management Counsel

Department of Justice

Les Jin,
Staff Director.

[FR Doc. 01-22274 Filed 9-4-01; 8:45 am]

BILLING CODE 6335-01-M